DEPARTMENT OF HOMELAND SECURITY

Coast Guard

[Docket No. USCG-2021-0407]

Guidance: Change 2 to NVIC 02-18 Guidelines on Qualification for STCW Endorsements as Officer in Charge of a Navigational Watch of Vessels of Less Than 500 GT

AGENCY: Coast Guard, Homeland Security (DHS).

ACTION: Notice of availability.

SUMMARY: The Coast Guard announces the availability of change 2 to Navigation and Vessel Inspection Circular (NVIC) 02-18, Guidelines on Qualification for STCW Endorsements as Officer in Charge of a Navigational Watch of Vessels of Less Than 500 GT. This NVIC provides guidance to mariners concerning regulations governing endorsements to Merchant Mariner Credentials for service on vessels of less than 500 Gross Tons (GT) (i.e., not limited to near-coastal waters). This change notice revises NVIC 02-18 to indicate that the Coast Guard will not enforce the 3 month maximum allowable substitution for credible sea service in a rating capacity.

DATES: The policies announced in Change-2 to NVIC 02-18 are effective as of August 26, 2021.

ADDRESSES: To view documents and CH-2 NVIC 02-18 mentioned in this notice, search the docket number USCG-2021-0407 using the Federal eRulemaking Portal at https://www.regulations.gov.

FOR FURTHER INFORMATION CONTACT: For information about this document, contact the James Cavo, Mariner Credentialing Program Policy Division (CG-MMC-2), Coast Guard; telephone 202-372-1205; email MMCPolicy@uscg.mil.

SUPPLEMENTARY INFORMATION: NVIC 02-18 describes the Coast Guard's policy for merchant mariners to qualify for and renew Standards of Training, Certification and Watchkeeping for Seafarers (STCW) endorsements to Merchant Mariner Credentials under 46 CFR 11.319 for service as officer in charge of a navigational watch (OICNW) on vessels of less than 500 GT upon all waters (i.e., not limited to near-coastal waters). The Coast Guard has become aware that mariners seeking an endorsement as OICNW of vessels of less than 500 GT are experiencing difficulties meeting the bridge watchkeeping requirements for the endorsement in a rating capacity.

As specified in § 11.319(a)(2), mariners must obtain at least six months of service performing bridge watchkeeping duties. This section also limits the amount of service in a rating capacity that can be used to meet this requirement to not more than 6 months of experience, which is accepted as a maximum of three months of creditable service. The mariner would have to obtain three additional months of service performing bridge watchkeeping duties in a non-rating capacity, such as an officer capacity. The OICNW of vessels less than 500 GT is considered a first certificate of competence, in that it may be the first STCW officer endorsement a mariner obtains, mariners typically qualify by serving as a rating such as able seaman. It is often impossible for these mariners to meet the 6 month bridge watchkeeping requirement with the 3 month limit on credible rating service because they cannot serve as an officer to accrue the remaining 3 months of bridge watchkeeping without this OICNW first certificate of competence.

This CH-2 will remedy that barrier to qualifying for the OICNW of vessels less than 500 GT endorsement by not enforcing the 3 month maximum allowable substitution for service as a rating to meet the required service performing bridge watchkeeping duties. This change notice revises NVIC 02-18 to indicate that the Coast Guard will accept, on a day for day basis and without limitation, service in any capacity performing bridge watchkeeping duties under the supervision of an officer holding the STCW endorsement as Master, Chief Mate, or OICNW. Allowing mariners to accrue bridge watchkeeping service in a rating capacity on a day for day basis provides additional avenues for qualification as an OICNW of vessels less than 500 GT and reduces the regulatory burden on these mariners.

We compared the requirements for OICNW of vessels less than 500 GT in 46 CFR 11.319 with those for OICNW of vessels of 500 GT or more in 46 CFR 11.309. For the endorsement for OICNW on vessels 500 GT or more, a mariner can satisfy the bridge watchkeeping requirements with six months of rating service. The OICNW on vessels of 500 GT or more endorsement has no cap on rating sea service and rating service is credited on a day for day basis.

The rating limitation on the OICNW of vessels less than 500 GT was included because of an oversight during development of the final rule “Implementation of the Amendments to the International Convention on Standards of Training, Certification and Watchkeeping for Seafarers, 1978, and Changes to National Endorsements” that published on December 24, 2013. (78 FR 77796). The Coast Guard had the three month rating limitation in both §§ 11.309(a)(2) and 11.319(a)(2) in the notice of proposed rulemaking (74 FR 59354, Nov. 17, 2009) and supplemental notice of proposed rulemaking (76 FR 45908, Aug. 11, 2011). In the final rule, the Coast Guard removed the limitation in § 11.309(a)(2) for endorsements as OICNW for 500 GT or more stating we “revise[d] section to reduce redundant language from other sections of this subpart.” (79 FR at 77799). However, the Coast Guard neglected to make the same change to 46 CFR 11.319(a)(2) for the lower tonnage regulation for OICNW of vessels less than 500 GT.

The rating limitation was carried over from previous editions of the regulatory text, but was not intended to be a limit on either of the STCW OICNW endorsements. It is unnecessarily burdensome to limit the rating capacity bridge watchkeeping to three months in the endorsement that is that is for a lesser tonnage.

For these reasons, the Coast Guard will not enforce the limitation on the rating capacity service in 11.319(a)(2), as reflected in CH-2 to NVIC 02-18 Guidelines on Qualification for STCW Endorsements as Officer in Charge of a Navigational Watch of Vessels of Less Than 500 GT.

This notice is issued under authority of 5 U.S.C. 552(a).

Dated: August 26, 2021.
J.W. Mauger,
Rear Admiral, U.S. Coast Guard, Assistant Commandant for Prevention Policy.

[FR Doc. 2021-18956 Filed 9-1-21; 8:45 am]

BILLING CODE 9110-04-P